DEPARTMENT OF ENERGY

Federal Energy Regulatory Commission

[Project No. 13530-000]

City of Keene, NH; Notice of Preliminary Permit Application Accepted for Filing and Soliciting Comments, Motions To Intervene, and Competing Applications

September 9, 2009.

On July 6, 2009, the City of Keene, New Hampshire filed an application, pursuant to section 4(f) of the Federal Power Act, proposing to study the feasibility of the Ashuelot River Dam Project, to be located on the Ashuelot River, in Cheshire County, New Hampshire.

The proposed project would consist of: (1) The existing 160-foot-long, 16-foot-high Ashuelot Park Dam with 2-foot-high flashboards; (2) the existing 34-acre reservoir with 120 acre-feet of storage capacity; (3) a new powerhouse below the existing outlet works containing two generating units with a installed capacity of 240 kilowatts; (4) a new 150-foot-long tailrace; and (5) an approximately 500-foot-long transmission line. The project would have an estimated average annual generation of 1,000 megawatts-hours.

Applicant Contact: Mr. John Maclean, City Manager, 3 Washington Street, Keene, NH 03431, phone (603) 357-9804.

FERC Contact: Michael Spencer, (202) 502-6093.

Competing Application: This application competes with Project No. 13419-000 filed April 2, 2009. Competing applications had to be filed on or before July 3, 2009.

Deadline for filing comments, motions to intervene: 60 days from the issuance of this notice. Comments, and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project can be viewed or printed on the “eLibrary” link of Commission's Web site at http://www.ferc.gov/docs-filing/elibrary.asp. Enter the docket number (P-13530) in the docket number field to access the document. For assistance, call toll-free 1-866-208-3372.

Kimberly D. Bose,
Secretary.

[FR Doc. E9-22233 Filed 9-15-09; 8:45 am]

BILLING CODE 6717-01-P